DEPARTMENT OF THE INTERIOR

Bureau of Land Management

[LLNVW0000.L5110000.GN0000.LVEMF1402860.14X; MO# 4500089716]

Notice of Availability of the Final Environmental Impact Statement for the Proposed Coeur Rochester Mine Plan of Operations Amendment 10 and Closure Plan, Pershing County, NV

AGENCY: Bureau of Land Management, Interior.

ACTION: Notice.

SUMMARY: In accordance with the National Environmental Policy Act of 1969, as amended, and the Federal Land Policy and Management Act of 1976, as amended, the Bureau of Land Management (BLM) has prepared a Final Environmental Impact Statement (EIS) for the Coeur Rochester Mine Plan of Operations Amendment 10 and Closure Plan and by this notice is announcing its availability.

DATES: The BLM will not issue a final decision on the proposal for a minimum of 30 days after the date that the Environmental Protection Agency publishes its Notice of Availability in the Federal Register.

ADDRESSES: Copies of the Coeur Rochester Mine Plan of Operations Amendment 10 and Closure Plan EIS are available for public inspection at the Winnemucca District BLM, 5100 E. Winnemucca Blvd., Winnemucca, NV. Interested persons may also review the Final EIS on the Internet at http://on.doi.gov/1d5pIxR.

FOR FURTHER INFORMATION CONTACT: Kathleen Rehberg, Project Lead, telephone 775-623-1500; address BLM Winnemucca District, Humboldt River Field Office, 5100 E. Winnemucca Blvd., Winnemucca, NV 89445; email krehberg@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The applicant, Coeur Rochester, Inc. (CRI), has requested an expansion of its operations at the existing Coeur Rochester Mine, which is located approximately 18 miles northeast of Lovelock, Nevada, in the Humboldt Range, Pershing County. The mine is currently authorized to disturb up to 1,939 acres (approximately 187 acres of private land and 1,752 acres of public land), which was permitted under a series of Environmental Assessments (EA N26-86-002P, February 1986; EA NV-020-99-12, February 1999; EA NV-020-01-06, December 2000; EA NV-020-01-06, February 2002; EA NV-020-03-13, August 2003; DOI-BLM-NV-W010-2010-0010-EA, October 2010).

The Draft EIS analyzed the potential environmental impacts associated with the proposed changes to CRI's current operations presented under this Plan of Operations (Plan) modification, which includes a total of 254.5 acres of new disturbance proposed on public land, and a reduction of approved disturbance acres of 23.3 acres on private land.

The Draft EIS analyzed three alternatives: (1) The Proposed Action; (2) Permanent Management of Potentially Acid Generating (PAG) Material Outside of the Rochester Pit Alternative; and (3) The No Action Alternative. The Proposed Action would include a change to the Plan boundary designed to include existing claims and newly acquired private lands within the boundary. However, all of the proposed disturbance to public land would be within the existing approved Plan boundary. The project includes the following:

• An approximately 67-acre expansion to the existing Stage IV Heap Leach Pad (HLP);

• An increase of the allowable maximum Stage IV HLP stacking height from 330 feet to 400 feet;

• Construction of a 124-acre Stage V HLP with associated ponds and tank;

• Relocation of a portion of the American Canyon public access road and establishment of an associated right-of-way (ROW);

• Relocation of a portion of the paved Rochester main access road ROW;

• Realignment of the Stage IV haul road and construction of secondary access roads;

• Relocation of existing power lines consistent with the proposed ROW realignments and HLP construction;

• Relocation of the electrical building, core shed, and production well PW-2a;

• Excavation of new borrow areas and construction of one new growth medium stockpile;

• Installation of the Stage IV HLP conveyor system, associated load out points, ore stockpiles, maintenance road, and utility corridor, including process solutions and fresh water supply pipelines; and

• Changes to closure activities for existing facilities including: altering the open pit safety berm sizes; HLP interim fluid management plans; HLP cover designs; the installation of evaporation cells; and long-term draindown management.

Under the Permanent Management of PAG Material Outside of the Rochester Pit Alternative, which is the BLM preferred alternative, the proposed activities listed in the Proposed Action would be the same, with the exception of the permanent location of the PAG material. In this alternative the material would be permanently relocated outside of the existing pit.

Under the No-Action Alternative, the BLM would not approve the proposed Plan modification and there would be no expansion. CRI would continue mining activities under its previously approved plan of operation.

Three other alternatives were considered, but eliminated: (1) Pit Backfill Elevation Alternative; (2) Alternate Location for Stage V HLP Alternative; and (3) Close a Portion of American Canyon Road to Public Access Alternative.

A Notice of Availability of the Draft EIS for the Proposed Coeur Rochester Mine Plan of Operations Amendment 10 and Closure Plan was published in the Federal Register on August 21, 2015 (80 FR 50864). Two open house public meetings were held during the comment period. One hundred and forty two (142) comment letters were received during a 45-day period; however, 135 of those did not contain any substantive comments. The majority of the comments was in support of the project and centered on the local and economic benefits. There were seven comment letters that contained substantive comments, which included concerns about impacts to special status species, especially Preble's shrew, post-closure monitoring and mitigation activities, impacts to water and air, climate change, and recommendations on the preferred alternative and cultural mitigation. These comments were considered and addressed in Appendix A (Response to Comments on the Draft Environmental Impact Statement) of the Final EIS.

On September 21, 2015, during the public scoping of this Draft EIS, the Record of Decision (ROD) and Approved Resource Management Plan Amendments for the Great Basin Region, including the Greater Sage-Grouse Sub-Regions of Idaho and Southwestern Montana, Nevada and Northeastern California, Oregon, and Utah (Greater Sage-Grouse Plan Amendment) was signed. For consistency with the Greater Sage-Grouse Plan Amendment, the BLM compared the maps and habitat categories in that document to the initial habitat maps from BLM Instruction Memorandum (IM) 2012-044 (December 27, 2011) that were used in the development of the Draft EIS for the Proposed Coeur Rochester Mine Plan of Operations Amendment 10 and Closure Plan. According to the new map, approximately 20 acres of proposed disturbance from the Coeur Rochester project would be in General Habitat (versus 168 acres of Preliminary General Habitat analyzed in this Draft EIS) with the remainder now in an Other Habitat category. In other words, the new map in the Greater Sage-Grouse Plan Amendment shows less General Habitat within the proposed disturbance area than was analyzed in this Draft EIS under previous guidelines. The analysis and resulting mitigation for Greater Sage-Grouse outlined in Chapter 6 (Mitigation and Monitoring) of this Final EIS are thus consistent with the guidelines outlined in the Greater Sage-Grouse Plan Amendment, Appendix F (Regional Mitigation Strategy) and Appendix I (Avoid, Minimize, and Apply Compensatory Mitigation Flowchart.) The preferred alternative includes over 330 acres of mitigation in Sagebrush Focal Areas and prime habitat located in National Conservation Areas and wilderness areas, which would result in a net conservation gain to Sage-grouse, as well as benefit other species.

Comments on the Draft EIS received from the public and internal BLM review were considered and incorporated as appropriate into the Final EIS. Public comments resulted in the addition of clarifying text, but did not significantly change the analysis. Following a 30-day availability and review period, a Record of Decision (ROD) will be issued. The decision reached in the ROD is subject to appeal to the Interior Board of Land Appeals. The 30-day appeal period begins with the issuance of the ROD.

Authority: 40 CFR 1506.6, 40 CFR 1506.10.

Steve Sappington,
Field Manager, Humboldt River Field Office.

[FR Doc. 2016-11287 Filed 5-12-16; 8:45 am]

BILLING CODE 4310-HC-P